ENVIRONMENTAL PROTECTION AGENCY

40 CFR Part 52

[EPA-R05-OAR-2017-0157; FRL-9969-87-Region 5]

Air Plan Approval; Wisconsin; Regional Haze Progress Report

AGENCY: Environmental Protection Agency (EPA).

ACTION: Direct final rule.

SUMMARY: The Environmental Protection Agency (EPA) is approving the regional haze progress report under the Clean Air Act as a revision to the Wisconsin State Implementation Plan (SIP). Wisconsin has satisfied the progress report requirements of the Regional Haze Rule. Wisconsin has also met the requirements for a determination of the adequacy of its regional haze plan with its negative declaration submitted with the progress report.

DATES: This direct final rule will be effective December 19, 2017, unless EPA receives adverse comments by November 20, 2017. If adverse comments are received, EPA will publish a timely withdrawal of the direct final rule in the Federal Register informing the public that the rule will not take effect.

ADDRESSES: Submit your comments, identified by Docket ID No. EPA-R05-OAR-2017-0157 at http://www.regulations.gov or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Gilberto Alvarez, Environmental Scientist, Attainment Planning and Maintenance Section, Air Programs Branch (AR-18J), Environmental Protection Agency, Region 5, 77 West Jackson Boulevard, Chicago, Illinois 60604, (312) 886-6143, alvarez.gilberto@epa.gov.

SUPPLEMENTARY INFORMATION: Throughout this document whenever “we,” “us,” or “our” is used, we mean EPA. This supplementary information section is arranged as follows:

I. Background

II. Requirements for the Regional Haze Progress Report SIPs and Adequacy of Determinations

III. What is EPA's analysis?

IV. What action is EPA taking?

V. Statutory and Executive Order Reviews

I. Background

States are required to submit a progress report every five years that evaluates progress towards the Reasonable Progress Goals (RPGs) for each mandatory Class I Federal area within the State and in each mandatory Class I Federal area outside the State which may be affected by emissions from within the State. See 40 CFR 51.308(g). States are also required to submit, at the same time as the progress report, a determination of the adequacy of the State's existing regional haze SIP. See 40 CFR 51.308(h). The first progress report is due five years after the submittal of the initial regional haze SIP.

Wisconsin submitted its regional haze plan on January 18, 2012. EPA approved Wisconsin's regional haze plan into its SIP on August 7, 2012, 77 FR 46952. Wisconsin submitted its five-year progress report on March 17, 2017. This is a report on progress made in the first implementation period towards RPGs for Class I areas outside of Wisconsin. Wisconsin does not have any Class I areas within its borders. This progress report SIP included a determination that Wisconsin's existing regional haze SIP requires no substantive revision to achieve the established regional haze visibility improvement and emissions reduction goals for 2018. EPA is proposing to approve Wisconsin's progress report on the basis that it satisfies the applicable requirements of the rule at 40 CFR 51.308.

II. Requirements for the Regional Haze Progress Report SIPs and Adequacy of Determinations

Under 40 CFR 51.308(g), states must periodically (every five years) submit a regional haze progress report that address the seven elements found in 40 CFR 51.308(g).

Under 40 CFR 51.308(h), states are required to submit, at the same time as the progress report, a determination of the adequacy of their existing regional haze SIP and to take one of four possible listed actions based on information in the progress report.

III. What is EPA's analysis?

The Regional Haze Rule provides the required elements for five-year progress reports in 40 CFR 51.308(g). EPA finds that Wisconsin satisfied the 40 CFR 51.308(g) requirements with its progress report. EPA finds that, with its negative declaration, Wisconsin also satisfied the requirements for the determination of adequacy provided in 40 CFR 51.308(h).

The following sections discuss the information provided by Wisconsin in the progress report submission, along with EPA's analysis and determination of whether the submission met the applicable requirements of § 51.308.

1. Status of Implementation of all Measures Included in the Regional Haze SIP

In its progress report, Wisconsin summarizes the status of the emissions reduction measures that were included in its 2012 regional haze SIP. Specifically, the report addresses the status of the on-the-books emissions reduction measures. The measures include applicable Federal programs (e.g., Clean Air Interstate Rule—CAIR, Cross State Pollution Rule—CSAPR, on- and off-highway mobile source rules, area source rules, point sources, Title IV programs, nitrogen oxides (NOX) SIP Call, Maximum Achievable Control Technology (MACT) standards, Federal and State consent agreements, and Federal and State control strategies for electric generating units (EGUs)). This summary includes a discussion of the benefits associated with each measure.

The State documents the implementation status of measures from its regional haze SIP as well as describes significant measures resulting from EPA regulations other than the regional haze program as they pertain to the State's sources. The progress report SIP highlights the effect of several Federal control measures both nationally and, when possible, in the State. EPA finds that Wisconsin's analysis adequately addresses the applicable requirements of 40 CFR 51.308.

Regarding the status of BART and reasonable progress control requirements for sources in the State, Wisconsin's progress report notes that two boilers at one facility, Green Bay Georgia Pacific, were the only non-EGU emission units subject to BART requirements in Wisconsin. BART requirements at Georgia Pacific reflected alternative measures, which were incorporated into a federally enforceable Administrative Consent Order dated July 9, 2013, effective January 1, 2016. For sources evaluated for reasonable progress in Wisconsin, the State found no additional controls (beyond on-the-books controls) to be reasonable for the first implementation period, so no other discussion of the status of controls was necessary in the progress report SIP.

Wisconsin describes the implementation status of measures from its regional haze SIP, including the status of control measures to meet BART and reasonable progress requirements and the status of measures from on-the-book controls. EPA concludes that Wisconsin has adequately addressed the status of control measures in its regional haze SIP.

2. Summary of Emissions Reductions Achieved in the State Through Implementation of Measures

In its regional haze SIP and progress report, Wisconsin focuses its assessment on NOX and sulfur dioxide (SO2) emissions from EGUs as a result of the implementation of CAIR/CSAPR, as well as emissions from non-EGUs. During the period from 2005-2015 SO2 emissions from EGUs and non-EGUs decreased in Wisconsin by 74 percent according to data from the EPA Clean Air Markets Division (CAMD). Additionally, NOX emissions decreased from EGUs and non-EGUs by 55 percent during the same time period.

The State provides estimates of reductions of NOX and SO2 from EGUs and non-EGUs in Wisconsin that have occurred since Wisconsin submitted its regional haze SIP. Given the large NOX and SO2 reductions that have actually occurred, further analysis of emissions from other sources or other pollutants, was unnecessary in this first implementation period. Because no additional controls were found to be reasonable for reasonable progress for the first implementation period for evaluated sources in Wisconsin, EPA finds that no further discussion of emissions reductions from controls was necessary in the progress report. EPA concludes that Wisconsin has adequately addressed the applicable requirements of 40 CFR 51.308.

3. Assessment of Visibility Conditions and Changes for Each Mandatory Class I Federal Area in the State

Wisconsin does not have any Class I areas within its boundaries, and as the applicable provisions pertain only to states containing Class I areas, no further analysis is necessary. EPA concludes that Wisconsin has adequately addressed the applicable requirements of 40 CFR 51.308(g).

4. Analysis Tracking Emissions Changes of Visibility-Impairing Pollutants

In its progress report, Wisconsin presents data from a statewide emissions inventory developed for the year 2005 and compares this with a 2014 emissions inventory constructed by the Lake Michigan Air Directors Consortium (LADCO) based on the National Emissions Inventory (NEI) 2011 version 2 (2011 NEIv2) data. For both years, pollutants inventoried include ammonia (NH3), NOX, coarse particulate matter (PM10), fine particulate matter (PM2.5), reactive organic gases (ROG), and SO2. The emissions inventories from both the 2005 dataset and the 2014 NEIv2 include all point, area, on-road, off-road, animal and marine-aircraft-rail (MAR).

Table 1 below shows the emissions from 2005-2014 versus projected 2018 emissions from the 2012 Wisconsin regional haze SIP submission. SO2 and NOX sources are the most impactful in terms of visibility improvement. In the 2005 inventory, SO2 emissions were 260,556 tons per year (TPY) and were projected by 2018 to decrease to 133,039 TPY. In 2014, SO2 emission had already decreased to 89,067 TPY, and achieved a 65.8 percent reduction. NOX emissions were 349,336 TPY and were projected by 2018 to decrease to 172,876 TPY. In 2014, NOX emission had already decreased to 236,568 TPY, and achieved a 32.3 percent reduction. Reductions of other pollutants exceeded the expected 2018 emissions.

PM10 emissions increased from 2005 to 2014 by 8.4%. In the 2012 Regional Haze SIP and the progress report, WI predicted this increase, but it was deemed insignificant relative to the visibility improvements from the large reductions of NOX and SO2 emissions over those same time periods. NOX and SO2 emissions reductions have a much greater impact on visibility improvement.

Table 1—Emission Reductions: 2005 to 2014 vs Projected 2018 Emissions (TPY)
| NH3 | NOX | PM10 | PM2.5 | ROG | SO2
2005 Base from Haze SIP | 123,260 | 349,336 | 60,494 | 53,143 | 299,230 | 260,556
2014 | 39,642 | 236,568 | 65,576 | 50,278 | 258,611 | 89,067
2018 Target from Haze SIP | 114,738 | 172,876 | 72,231 | 61,353 | 228,806 | 133,039
% change, 2005-2014 | −67.8% | −32.3% | 8.4% | −5.4% | −13.6% | −65.8%
% change, 2005-2018 | −6.9% | −50.5% | 19.4% | 15.4% | −23.5% | −48.9%

The progress report shows that emissions are gradually decreasing from implementation of a variety of programs. EPA finds that Wisconsin has satisfied this element requiring an analysis tracking emissions progress for the current five-year period. Wisconsin appears to be on track for reaching its 2018 emission projections. EPA concludes that Wisconsin has adequately addressed the applicable requirements of 40 CFR 51.308.

5. Assessment of Any Significant Changes in Anthropogenic Emissions

As demonstrated in the previous section, in its progress report, Wisconsin notes that progress has been made in reductions in visibility-impairing pollutants in the last five years. Wisconsin found that no changes either within or outside the State have occurred in the last five years that would impede the achievement of necessary emission reductions or would impede the improvement of visibility.

Wisconsin indicated that no significant changes in anthropogenic emissions have impeded progress in reducing emissions and improving visibility in Class I areas impacted by Wisconsin sources. The progress report identified an overall downward trend in these emissions. Further, the progress report indicates that Wisconsin is on track to meeting its 2018 emissions projections. EPA concludes that Wisconsin has adequately addressed the applicable requirements of 40 CFR 51.308.

6. Assessment of Whether the SIP Elements and Strategies Are Sufficient To Enable Wisconsin, or Other States, To Meet RPGs

The progress report indicates that the elements and strategies outlined in its original regional haze SIP are sufficient to enable Wisconsin and states where Wisconsin contributes to visibility impairments to meet all of the established RPGs. The original regional haze SIP identified several sources in Wisconsin that contribute to visibility impairment at Seney and Isle Royale Class I areas in Michigan. Wisconsin determined that implementation of control measures at these sources and associated significant downward trends in emissions, as discussed previously, demonstrate that Wisconsin is not interfering with the ability of these Class I areas to meet reasonable progress goals.

EPA finds that Wisconsin's conclusion regarding the sufficiency of the regional haze SIP is supported by the progress report from Michigan showing improved visibility at the Seney and Isle Royale Class I areas. EPA concludes that Wisconsin has adequately addressed the applicable requirements of 40 CFR 51.308.

7. Review of the State's Visibility Monitoring Strategy

Wisconsin's progress report confirms there are no Class I areas within its borders. Because Wisconsin does not have any Class I areas within its borders, Wisconsin is not required to address the applicable provisions related to review of the State's visibility monitoring strategy. EPA concludes that Wisconsin has adequately addressed the applicable requirements of 40 CFR 51.308.

40 CFR 51.308(h) Determination of the Adequacy of Existing Implementation Plan

The rule at 40 CFR 51.308(h) requires the State to submit its determination of adequacy for the regional haze plan at the same time as the progress report. The rule requires the State to select from four options based on the information given in the progress report.

Wisconsin submitted a negative declaration indicating that further substantive revision of its regional haze plan is not needed at this time. Wisconsin determined that its regional haze plan is adequate to meet the Regional Haze Rule requirements and expects to achieve the reasonable progress goals at Isle Royale and Seney.

EPA finds that the current Wisconsin regional haze plan is adequate to achieve its established goals. Based on its progress report, Wisconsin is on track to meet the visibility improvement and emission reduction goals.

Public Participation and Federal Land Manager Consultation

On December 12, 2016 Wisconsin provided an opportunity for Federal Land Managers (FLMs) to review Wisconsin's report on progress made during the first implementation period toward RPGs for Class I areas outside the State that are affected by emissions from Wisconsin's sources. Wisconsin's progress report includes in Appendix 5, the FLMs comments and the State's response to comments.

Wisconsin also published notification for a public hearing and solicitation for full public comment concerning the draft five-year progress report. A public hearing was held on February 14, 2017. No comments were received and no testimony was provided.

EPA finds that Wisconsin has addressed the applicable requirements in § 51.308(i) regarding FLM consultation.

IV. What action is EPA taking?

EPA is approving the regional haze progress report submitted on March 17, 2017, as a revision to the Wisconsin SIP. EPA finds that Wisconsin has satisfied the progress report requirements of 40 CFR 51.308(g). EPA also finds that Wisconsin has met the 40 CFR 51.308(h) requirements for a determination of the adequacy of its regional haze plan with its negative declaration submitted on March 17, 2017.

We are publishing this action without prior proposal because we view this as a noncontroversial amendment and anticipate no adverse comments. However, in the proposed rules section of this Federal Register publication, we are publishing a separate document that will serve as the proposal to approve the State plan if relevant adverse written comments are filed. This rule will be effective December 19, 2017 without further notice unless we receive relevant adverse written comments by November 20, 2017. If we receive such comments, we will withdraw this action before the effective date by publishing a subsequent document that will withdraw the final action. Public comments will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 19, 2017.

V. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Particulate matter, Reporting and recordkeeping requirements, Sulfur oxides, Volatile organic compounds.

Dated: October 10, 2017.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

Subpart YY—Wisconsin

2. Add § 52.2593 to read as follows:

§ 52.2593 Visibility protection.

(a) Approval. Wisconsin submitted its regional haze plan to EPA on January 18, 2012, supplemented on June 7, 2012. The Wisconsin regional haze plan meets the requirements of Clean Air Act section 169B and the Regional Haze Rule in § 51.308.

(b) Approval. Wisconsin submitted its five-year progress report on March 17, 2017. The Progress Report meets the requirements of Clean Air Act sections 169A and 169B and the Regional Haze Rule in § 51.308.

[FR Doc. 2017-22705 Filed 10-19-17; 8:45 am]

BILLING CODE 6560-50-P